DEPARTMENT OF JUSTICE

Antitrust Division

Notice Pursuant to the National Cooperative Research and Production Act of 1993—4C Founders

The notice on behalf of 4C Founders published in the Federal Register on Thursday, January 11, 2001 (66 FR 2447) should be corrected to read as follows:

Notice is hereby given that, on November 2, 2000, pursuant to Section 6(a) of the National Cooperative Research and Production Act of 1993, 15 U.S.C. 4301 et seq. (“the Act”), 4C Founders has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Intel Corporation, Santa Clara, CA; International Business Machines Corporation, Armonk, NY; Matsushita Electric Industrial Co., Ltd., Osaka, Japan; and Toshiba Corporation, Tokyo, Japan.

The nature and objectives of the venture are to develop interoperable specifications for the protection of copyrighted digital audio and video content from unauthorized interception and copying; and to promote adoption of the specifications by (i) licensing them on reasonable and nondiscriminatory terms; (ii) providing technical support to adopters, content providers, and others who implement the specifications; (iii) generating and supplying keys for encryption and decryption of the digital content so protected; (iv) providing a means to receive comments and feedback from parties implementing the specifications; and (v) consulting with standards bodies, and others engaged in related specifications efforts, and potential users of the specifications. The 4C Founders' specifications will include information directing specific implementations only as necessary to enable, promote, and improve protection of digital audio and video content; to preserve the security of the protection method; and to promote interoperability of products (including information technology and consumer electronic devices), media which implement the specifications, and the means for distributing content so protected.

In furtherance of the purposes stated above, the 4C Founders may, among other things, engage in theoretical analysis; experimentation; systematic study; research; development; testing; extension of investigative findings or theories of a scientific or technical nature into practical application for experimental and demonstration purposes; collection, exchange and analysis of research or production information; enter into agreements to carry out the objectives of the Founders; establish and operate facilities for conducting such venture; conduct such venture on a protected and proprietary basis; prosecute applications for patents and grant licenses for the results of such venture; and any combination of these activities.

Membership in this group research project remains open, and 4C Founders intends to file additional written notification disclosing all changes in membership.

Constance K. Robinson,
Director of Operations, Antitrust Division.

[FR Doc. 01-8409 Filed 4-4-01; 8:45 am]

BILLING CODE 4410-11-M